DEPARTMENT OF THE INTERIOR

Bureau of Land Management

[LLMT926000-L14400000.BJ0000); 16XL1109AF; MO#4500087308]

Notice of Filing of Plats of Survey; Montana

AGENCY: Bureau of Land Management, Interior.

ACTION: Notice of filing of plats of survey.

SUMMARY: The Bureau of Land Management (BLM) will file the plat of survey of the lands described below in the BLM Montana State Office, Billings, Montana, on December 17, 2015.

DATES: Protests of the survey must be filed before December 17, 2015 to be considered.

ADDRESSES: Protests of the survey should be sent to the Branch of Cadastral Survey, Bureau of Land Management, 5001 Southgate Drive, Billings, Montana 59101-4669.

FOR FURTHER INFORMATION CONTACT: Marvin Montoya, Cadastral Surveyor, Branch of Cadastral Survey, Bureau of Land Management, 5001 Southgate Drive, Billings, Montana 59101-4669, telephone (406) 896-5124 or (406) 896-5003, Hmontoya@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This survey was executed at the request of the Field Manager, Central Montana District Office, Upper Missouri River Breaks National Monument (UMRBNM), Bureau of Land Management, Lewistown, Montana, and was necessary to determine boundaries of Federal lands.

The lands we surveyed are:

Principal Meridian, Montana

T. 26 N., R. 20 E.

The plat, in 3 sheets, representing the dependent resurvey of a portion of the subdivisional lines and the subdivision of certain sections in Township 26 North, Range 20 East, Principal Meridian, Montana, was accepted September 25, 2015.

This survey was executed at the request of the Field Manager, Dillon Field Office, Bureau of Land Management, Dillon, Montana, and was necessary to determine boundaries of Federal lands.

The lands we surveyed are:

Principal Meridian, Montana

T. 2 S., R. 2 E.

The plat, in 1 sheet, representing the dependent resurvey of a portion of the west boundary, a portion of the subdivisional lines, and the adjusted original meanders of the left and right banks of the Madison River, and the subdivision of section 19, in Township 2 South, Range 2 East, Principal Meridian, Montana, was accepted September 25, 2015.

This survey was executed at the request of the Field Manager, Malta Field Office, Bureau of Land Management, Malta, Montana, and was necessary to determine boundaries of Federal lands.

The lands we surveyed are:

Principal Meridian, Montana

T. 25 N., R. 24 E.

The plat, in 1 sheet, representing the dependent resurvey of portions of the subdivisional lines and subdivision of certain sections and the subdivision of certain sections, in Township 25 North, Range 24 East, Principal Meridian, Montana, was accepted September 25, 2015.

The lands we surveyed are:

Principal Meridian, Montana

T. 25 N., R. 25 E.

The plat, in 1 sheet, representing the dependent resurvey of portions of the subdivisional lines and subdivision of section 16 and the subdivision of section 16, in Township 25 North, Range 25 East, Principal Meridian, Montana, was accepted September 25, 2015.

This survey was executed at the request of the Field Manager, Malta Field Office, Bureau of Land Management, Malta, Montana, and was necessary to determine boundaries of Federal lands.

We will place a copy of the plats, in six sheets, and related field notes we described in the open files. They will be available to the public as a matter of information. If the BLM receives a protest against this survey, as shown on these plats, in six sheets, prior to the date of the official filing, we will stay the filing pending our consideration of the protest. We will not officially file these plats, in six sheets, until the day after we have accepted or dismissed all protests and they have become final, including decisions or appeals.

Authority: 43 U.S.C. Chap. 3.

Joshua F. Alexander,
Acting Chief, Branch of Cadastral Survey, Division of Energy, Minerals and Realty.

[FR Doc. 2015-29205 Filed 11-16-15; 8:45 am]

BILLING CODE 4310-DN-P